DEPARTMENT OF ENERGY

Federal Energy Regulatory Commission

[ Project No. 13563-001]

Juneau Hydropower, Inc.; Notice of Subsequent Draft License Application (DLA) and Draft Preliminary Draft Environmental Assessment (PDEA) and Request for Preliminary Terms and Conditions

Take notice that the following Draft License Application (DLA) and draft Preliminary Draft Environmental Assessment (PDEA) have been filed with the Commission and are available for public inspection.

a. Type of Application: Major Unconstructed Project.

b. Project No.: 13563-001.

c. Date Filed: October 15, 2013.

d. Applicant: Juneau Hydropower, Inc.

e. Name of Project: Sweetheart Lake Hydroelectric Project.

f. Location: At the confluence of Sweetheart Lake and Gilbert Bay, in the City and Borough of Juneau, Alaska. The project would occupy 1,886.76 acres of federal lands within the Tongass National Forest, administered by the US Forest Service.

g. Filed Pursuant to: Federal Power Act 16 U.S.C. 791(a)-825(r).

h. Applicant Contact: Duff Mitchell, Business Manager, Juneau Hydropower, Inc., P.O. Box 22775, Juneau, AK 99802; 907-789-2775, email: duff.mitchell@juneauhydro.com.

i. FERC Contact: John Matkowski, 202-502-8576, john.matkowski@ferc.gov.

j. Status of Project: With this notice the Commission is soliciting (1) preliminary terms, conditions, and recommendations on the draft PDEA, and (2) comments on the DLA.

k. Deadline for filing: 90 days from the issuance of this notice.

All comments on the draft PDEA and DLA should be sent to the addresses noted above in Item (h), and filed with the Commission.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13563-001.

All comments must bear the heading Preliminary Comments, Preliminary Recommendations, Preliminary Terms and Conditions, or Preliminary Prescriptions.

l. A copy of the application is available for review at the Commission in the Public Reference Room or may be viewed on the Commission's Web site at http://www.ferc.gov using the “eLibrary” link. Enter the docket number excluding the last three digits in the docket number field to access the document. For assistance, contact FERC Online Support.

You may also register online at http://www.ferc.gov/docs-filing/esubscription.asp to be notified via email of new filings and issuances related to this or other pending projects. For assistance, contact FERC Online Support.

Juneau Hydropower, Inc. has mailed a copy of the draft PDEA and DLA to interested entities and parties. Copies of these documents are available for review at the Juneau Public Library, 292 Marine Way, Juneau, Alaska 99801, or at the Juneau Hydropower, Inc. Web site, http://www.juneauhydro.com.

m. With this notice, we are initiating consultation with the Alaska State Historic Preservation Officer, as required by section 106, National Historic Preservation Act, and the regulations of the Advisory Council on Historic Preservation, 36 CFR 800.4.

Dated: October 22, 2013.
Kimberly D. Bose,
Secretary.

[FR Doc. 2013-25437 Filed 10-28-13; 8:45 am]

BILLING CODE 6717-01-P